DEPARTMENT OF DEFENSE

GENERAL SERVICES ADMINISTRATION

NATIONAL AERONAUTICS AND SPACE ADMINISTRATION

48 CFR Part 5

[FAR Case 2001-030]

RIN 9000-AJ30

Federal Acquisition Regulation; Electronic Listing of Acquisition Vehicles Available for Use By More Than One Agency

AGENCIES: Department of Defense (DoD), General Services Administration (GSA), and National Aeronautics and Space Administration (NASA).

ACTION: Proposed rule.

SUMMARY: The Federal Acquisition Regulatory Council is proposing to amend the Federal Acquisition Regulation (FAR) to require contracting activities to input information online for Governmentwide acquisition contracts, multi-agency contracts, General Services Administration (GSA)Federal Supply Schedule (FSS) contracts, blanket purchase agreements (BPAs) under FSS contracts, and other procurement instruments intended for multiple agency use.

DATES: Interested parties should submit comments in writing on or before April 16, 2002 to be considered in the formulation of a final rule.

ADDRESSES: Submit written comments to: General Services Administration, FAR Secretariat (MVP), 1800 F Street, NW., Room 4035, ATTN: Laurie Duarte, Washington, DC 20405.

Submit electronic comments via the Internet to: farcase.2001-030@gsa.gov.

Please submit comments only and cite FAR case 2001-030 in all correspondence related to this case.

FOR FURTHER INFORMATION CONTACT: The FAR Secretariat, Room 4035, GS Building, Washington, DC, 20405, at (202) 501-4755 for information pertaining to status or publication schedules. For clarification of content, contact Ms. Laura Smith, Procurement Analyst, at (202) 208-7279. Please cite FAR case 2001-030.

SUPPLEMENTARY INFORMATION:

A. Background

This proposed rule adds a new FAR subpart to provide contracting officers and program managers an online source of information on contracts intended for multiple agency use. The proposed rule adds a new FAR Subpart 5.6,Publicizing Multi-Agency Use Contracts, that—

(1) Provides the Internet address to access the database;

(2) Requires contracting activities to enter information into the database within ten days of award of a procurement instrument intended for use by multiple agencies; and

(3) Requires contracting activities to enter information into the database by a specific date on all existing contracts and other procurement instruments intended for multiple agency use.

Information about Governmentwide acquisition contracts(GWACs), multi-agency contracts, General Services Administration (GSA), Federal Supply Schedule (FSS) contracts, blanket purchase agreements (BPAs) under FSS contracts, and other procurement instruments intended for multiple agency use will be available via the Internet at http://www.arnet.gov/gwac/govwide.html.

Proposed definitions of Governmentwide acquisition contract (GWAC) and multi-agency contract may be found in proposed rule 1999-303, Task-Order and Delivery-Order Contracts, which was published in the Federal Register at 66 FR 44518, August 23, 2001.

“Blanket purchase agreements” under GSA FSS contracts are agreements to fill repetitive needs for supplies or services. In accordance with guidance issued by the GSA Federal Supply Service, BPAs must identify all users when the BPA is established.

While the new subpart is currently proposed for FAR part 5, consideration is being given to alternatively identifying the database in FAR part 7, to indicate its potential use in acquisition planning, with the requirements to populate the database called out in FAR part 4 where other contract reporting requirements are identified. We encourage comments regarding placement of the new language.

Specific data elements that pertain to a particular procurement instrument will be listed on the web site to facilitate order placement. The specific data elements that are currently being considered for inclusion on that list are provided below for the purpose of generating public comments and recommendations that we will use in constructing this database:

Basic Information About the Procurement Instrument

(1) Program name and acronym [searchable].

(2) Procurement instrument number [searchable].

(3) Type of procurement instrument [with drop down box that includes Governmentwide acquisition contract (GWAC), multi-agency contract, FSS contract, BPA under FSS contract, other].

(4) Contractor.

(5) North American Industrial Classification (NAICS) code[searchable].

(6) Federal supply or service code [searchable].

(7) Brief description of supplies and services[searchable].

(8) Applicable socio-economic information [with a drop down box and instruction to “check all that apply” followed by Small Business, Emerging Small Business, Small Disadvantaged Business, 8(a), Very Small Business, Woman-Owned Small Business, HUBZone, Veteran-Owned Small Business,Service-Disabled Veteran-Owned Small Business, Historically Black Colleges and Universities, Minority Institution, Large Business, Other].

(9) Government web site address where contract or program information is located (if available).

Basic Information on Placing Orders

(10) Agencies that may place orders.

(11) Date through which agencies may place orders.

(12) Statutory authority for placing orders [with a drop down box to include—

(a) Clinger-Cohen GWAC authority;

(b) Economy Act, including Clinger-Cohen multi-agency contract authority;

(c) Other statutory authority not subject to the Economy Act (specify authority)].

(13) Ordering procedures, unless included at the web site in (9) above.

(14) List of administrative fees.

Other Basic Information

(15) Agency or activity that awarded the procurement instrument [searchable].

(16) Activity point of contact/telephone number/e-mail address.

This is not a significant regulatory action and, therefore, was not subject to review under Section 6(b) of Executive Order 12866, Regulatory Planning and Review, dated September 30, 1993. This rule is not a major rule under 5 U.S.C. 804.

B. Regulatory Flexibility Act

The Council does not expect this proposed rule to have a significant economic impact on a substantial number of small entities within the meaning of the Regulatory Flexibility Act, 5 U.S.C. 601, et seq. The establishment of an online database as a tool to collect information and facilitate it being readily available to Government officials is a matter of internal Government operating procedure. This rule requires contracting activities to enter data into the database and provides the Internet address for Government officials to access the database. An Initial Regulatory Flexibility Analysis has, therefore, not been performed. We invite comments from small businesses and other interested parties. We will consider comments from small entities concerning the affected FAR Part in accordance with 5 U.S.C. 610. Interested parties must submit such comments separately and should cite 5 U.S.C. 601, et seq. (FAR case 2001-030), in correspondence.

C. Paperwork Reduction Act

The Paperwork Reduction Act does not apply because the proposed changes to the FAR do not impose information collection requirements that require the approval of the Office of Management and Budget under 44 U.S.C. 3501, et seq.

List of Subjects in 48 CFR Part 5

Government procurement.

Dated: February 12, 2002.
Al Matera,
Director, Acquisition Policy Division.

Therefore, DoD, GSA, and NASA propose amending 48 CFR part 5 as set forth below:

PART 5—PUBLICIZING CONTRACT ACTIONS

1. The authority citation for 48 CFR part 5 continues to read as follows:

Authority: 40 U.S.C. 486(c); 10 U.S.C. chapter 137; and 42 U.S.C. 2473(c).

2. Add Subpart 5.6 to read as follows:

Subpart 5.6—Publicizing Multi-Agency Use Contracts

5.601 Governmentwide database of contracts.

(a) A Governmentwide database of contracts and other procurement instruments intended for use by multiple agencies is available via the Internet at http://www.arnet.gov/gwac/govwide.html. This searchable database is a tool that may be used to identify existing contracts and other procurement instruments that may be used to fulfill Government needs.

(b) The contracting activity must enter, via the Internet, the information specified at http://www.arnet.gov/gwac/govwide.html, in accordance with the instructions on that web site, within ten days of award of a Governmentwide acquisition contract (GWAC), multi-agency contract, General Services Administration (GSA) Federal Supply Schedule (FSS) contract, blanket purchase agreement (BPA) under FSS contract, or any other procurement instrument intended for use by multiple agencies.

(c) The contracting activity must enter, via the Internet, the information specified at http://www.arnet.gov/gwac/govwide.html, in accordance with the instructions on that web site, for all existing contracts and other procurement instruments intended for use by multiple agencies by [date to be determined].

[FR Doc. 02-3786 Filed 2-14-02; 8:45 am]

BILLING CODE 6820-EP-P